SOCIAL SECURITY ADMINISTRATION

[Docket No. SSA-2014-0007]

Privacy Act of 1974, As Amended: Proposed New Routine Use

AGENCY: Social Security Administration (SSA).

ACTION: Proposed New Routine Use.

SUMMARY: Pursuant to the Privacy Act of 1974, we are issuing public notice of our intent to add a new routine use to an existing system of records entitled: Master Files of Social Security Number (SSN) Holders and SSN Applications, (60-0058) (the Enumeration System). This system was last published in the Federal Register, 75 FR 82121 (Dec. 29, 2010); a revision to the routine uses was published, 78 FR 40,542 (July 5, 2013). The new routine use will enable us to verify information that the Corporation for National and Community Services (CNCS) requires in order to administer the National and Community Service Act (NCSA), 42 U.S.C. 12602. Specifically, CNSC will use the information we provide to verify statements made by an individual declaring that such individual is in compliance with section 146 of the NCSA. The new routine use is described below. We will rely on this routine use to disclose only those data elements from our system of records that CNCS has demonstrated are necessary for the administration of the NCSA.

DATES: We invite public comment on this proposal. In accordance with 5 U.S.C. 552a(e)(4) and (e)(11), the public is given a 30-day period in which to submit comments. Therefore, please submit any comments by March 17, 2014.

ADDRESSES: The public, Office of Management and Budget (OMB), and Congress may comment on this publication by writing to the Executive Director, Office of Privacy and Disclosure, Office of the General Counsel, Social Security Administration, Room 617 Altmeyer Building, 6401 Security Boulevard, Baltimore, Maryland 21235-6401 or through the Federal e-Rulemaking Portal at http://www.regulations.gov. All comments we receive will be available for public inspection at the above address.

FOR FURTHER INFORMATION CONTACT: Anthony Tookes, Government Information Specialist, Privacy Implementation Division, Office of Privacy and Disclosure, Office of the General Counsel, Social Security Administration, Room 617 Altmeyer Building, 6401 Security Boulevard, Baltimore, Maryland 21235-6401, telephone: (410) 966-0097, Email: Anthony.Tookes@ssa.gov.

In accordance with 5 U.S.C. 552a(r), we have provided a report to OMB and Congress on the proposed new routine use.

Dated: February 7, 2014.
Kirsten J. Moncada,
Executive Director, Office of Privacy and Disclosure, Office of the General Counsel.

Social Security Administration

SYSTEM NUMBER:

60-0058

SYSTEM NAME:

Master Files of Social Security Number (SSN) Holders and SSN

Applications, Social Security Administration (SSA)

* * * * *

ROUTINE USES OF RECORDS COVERED BY THE SYSTEM, INCLUDING CATEGORIES OF USERS AND THE PURPOSES OF SUCH USES:

* * * * *

46. To the Corporation for National and Community Service (CNCS) information required to Administer the National and Community Service Act (NCSA).

* * * * *

[FR Doc. 2014-03117 Filed 2-12-14; 8:45 am]

BILLING CODE 4191-02-P